FEDERAL EMERGENCY MANAGEMENT AGENCY

44 CFR Part 67

[Docket No. FEMA-D-7518]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Acting Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD): Existing | #Depth in feet above ground. *Elevation in feet (NGVD): Modified | Communities affected
OHIO
Gallia County (Unincorporated Areas)
Ohio River | Approximately 1.7 miles upstream of county boundary | *561 | *560 | Unincorporated Areas of Gallia County, Village of Crown City.
| Approximately 3.2 miles downstream of county boundary | *573 | *572 | City of Gallipolis, Village of Cheshire.
City of Gallipolis
Maps available for inspection at the Gallipolis City Building, 518 Second Avenue, Gallipolis, Ohio.
Send comments to Mr. E. V. Clark, Jr., Gallipolis City Manager, 518 2nd Avenue, Gallipolis, Ohio 45631.
Village of Crown City
Maps available for inspection at the Crown City Village Hall, 156 Charles Street, Crown City, Ohio.
Send comments to The Honorable Sam Johnson, Mayor of the Village of Crown City, P.O. Box 316, Crown City, Ohio 45623.
Village of Cheshire
Maps available for inspection at the Cheshire Village Office, 1828 Eastern Avenue, Gallipolis, Ohio.
Send comments to The Honorable H. Thomas Reese, Mayor of the Village of Cheshire, P.O. Box 276, Cheshire, Ohio 45620.
Gallia County (Unincorporated Areas)
Maps available for inspection at the Gallia County Offices, 18 Locust Street, Gallipolis, Ohio.
Send comments to Mr. Skip Meadows, President of the Gallia County Board of Commissioners, 18 Locust Street, Gallipolis, Ohio 45631.
Meigs County (Unincorporated Areas)
Ohio River | Approximately 2 miles upstream of the downstream county boundary | *575 | *576 | Village of Middleport, Village of Pomeroy, Village of Racine.
| At the upstream county boundary | *603 | *602 | Village of Syracuse, and unincorporated areas of Meigs County.
Little Leading Creek | Approximately 0.8 mile upstream of the Village of Rutland corporate limits | None | *578 | Unincorporated areas of Meigs County.
| Approximately 0.9 mile upstream of the Village of Rutland corporate limits | None | *578
Kerr Run | Just upstream of the Village of Pomeroy corporate limits | None | *579 | Unincorporated areas of Meigs County.
| Approximately 250 feet upstream of the Village of Pomeroy corporate limits | None | *579
Unnamed Tributary to Kerr Run | Just upstream of the Village of Pomeroy corporate limits | None | *579 | Unincorporated areas of Meigs County.
| Approximately 50 feet upstream of the Village of Pomeroy corporate limits | None | *579
Unnamed Tributary to Wolf Run | Approximately 750 feet of the confluence with Wolf Run | None | *582 | Unincorporated areas of Meigs County.
| Approximately 950 feet upstream of the confluence with Wolf Run | None | *582
Rose Creek | Approximately 0.8 mile upstream of the confluence with Ohio River | None | *580 | Unincorporated areas of Meigs County.
| Approximately 1.1 miles upstream of confluence with the Ohio River | None | *580
Johns Run | Approximately 200 feet downstream of State Route 338 | None | *587 | Unincorporated areas of Meigs County.
| Approximately 0.7 mile upstream of State Route 338 | None | *587
Groundhog Creek | Just upstream of State Route 338 | None None | *593 | Unincorporated areas of Meigs County.
| Approximately 1.7 miles upstream of State Route 338 | None | *593
Sugarcamp Run | Just upstream of State Route 124 | None | *601 | Unincorporated areas of Meigs County.
| Approximately 0.8 mile upstream of State Route 124 | None | *601
Indian Run | Just upstream of State Route 124 | None | *602 | Unincorporated areas of Meigs County.
| Approximately 0.9 mile upstream of State Route 124 | None | *602
Meigs County (Unincorporated Areas)
Maps available for inspection at the Meigs County Courthouse, 100 East Second Street, Pomeroy, Ohio.
Send comments to Mr. Jeff Thorton, President of the Meigs County Board of Commissioners, Meigs County Courthouse, 100 East Second Street, Pomeroy, Ohio 45769.
Village of Middleport
Maps available for inspection at the Middleport Village Hall, 237 Race Street, Middleport, Ohio.
Send comments to The Honorable Sandy Iannarelli, Mayor of the Village of Middleport, 237 Race Street, Middleport, Ohio 45760.
Village of Pomeroy
Maps available for inspection at the Pomeroy Village Hall, 320 East Main Street, Pomeroy, Ohio.
Send comments to The Honorable John Blaettnar, Mayor of the Village of Pomeroy, 320 East Main Street, Pomeroy, Ohio 45769.
Village of Racine
Maps available for inspection at the Racine Village Hall, 405 Main Street, Racine, Ohio.
Send comments to The Honorable J. Scott Hill, Mayor of the Village of Racine, P.O. Box 375, Racine, Ohio 45771.
Village of Syracuse
Maps available for inspection at the Syracuse Village Hall, 2581 Third Street, Syracuse, Ohio.
Send comments to The Honorable Larry Lavender, Mayor of the Village of Syracuse, 2581 Third Street, P.O. Box 266, Syracuse, Ohio 45779.
VIRGINIA
Southampton County (Unincorporated Areas)
Blackwater River | At the confluence with Chowan River | *11 | *14 | Southampton County (Unincorporated Areas).
| Approximately 6,700 feet upstream of State Route 620 (Broadwater Road) | None | *36
Nottoway River | At the confluence with Chowan River | *11 | *14 | Southampton County (Unincorporated Areas); Courtland (Town).
| Approximately 2,400 feet upstream of Norfolk Franklin & Danville Railroad | *26 | *27
Southampton County (Unincorporated Areas)
Maps available for inspection at the Southampton County Administrator's Office, 26022 Administration Center Drive, Courtland, Virginia.
Send comments to Mr. Michael W. Johnson, Southampton County Administrator, 26022 Administration Center Drive, Courtland, Virginia 23837.
Town of Courtland
Maps available for inspection at the Courtland Town Office, 22219 Meherrin Road, Courtland, Virginia.
Send comments to The Honorable Lewis H. Davis, Sr., Mayor of the Town of Courtland, P.O. Box 39, Courtland, Virginia 23837.

(Catalog of Federal Domestic Assistance No. 83.100, “Flood Insurance”)
Dated: December 11, 2001.
Robert F. Shea,
Acting Administrator, Federal Insurance and Mitigation Administration.

[FR Doc. 01-31372 Filed 12-19-01; 8:45 am]

BILLING CODE 6718-04-P